DEPARTMENT OF THE TREASURY

Internal Revenue Service

26 CFR Part 1

[TD 8973]

RIN 1545-AW09

Allocation of Loss With Respect to Stock and Other Personal Property; Correction

AGENCY: Internal Revenue Service (IRS), Treasury.

ACTION: Correction to final regulations.

SUMMARY: This document contains corrections to final regulations (TD 8973) which were published in the Federal Register on Friday, December 28, 2001 (66 FR 67081). The final regulations relate to the allocation of loss recognized on the disposition of stock and other personal property under sections 861 and 865.

DATES: This correction is effective January 8, 2002.

FOR FURTHER INFORMATION CONTACT: David A. Juster (202) 622-3850 (not a toll-free number).

SUPPLEMENTARY INFORMATION:

Background

The final regulations that are subject to these corrections are under sections 861 and 865 of the Internal Revenue Code.

Need for Correction

As published, final regulations (TD8973) contains errors that may prove to be misleading and are in need of clarification.

Correction of Publication

Accordingly, the publication of final regulations (TD 8973), which was the subject of FR Doc. 01-31819, is corrected as follows:

§ 1.861-8T [Corrected]

1. On page 67083, column 3, § 1.861-8T, line 3 of the paragraph heading, the language “for other sources and activities (temporary).” is corrected to read “from other sources and activities (temporary).”

§ 1.865-2 [Corrected]

2. On page 67086, column 2, § 1.865-2(a)(4)(iv), Example 3. (i), line 10, the language “country X for $1,000. On January 2, 2002, R” is corrected to read “Country X for $1,000. On January 2, 2002, R”.

LaNita VanDyke,
Acting Chief, Regulations Unit, Associate Chief Counsel, (Income Tax & Accounting).

[FR Doc. 02-2046 Filed 1-25-02; 8:45 am]

BILLING CODE 4830-01-P